FEDERAL COMMUNICATIONS COMMISSION

47 CFR Part 54

[WC Docket No. 10-90; DA 19-504]

Connect America Fund

AGENCY: Federal Communications Commission.

ACTION: Proposed action.

SUMMARY: In this document, the Wireline Competition Bureau (Bureau) seeks comment on approaches to identify and resolve apparent discrepancies between the number of model-determined funded locations that Alternative Connect America Model (A-CAM) I and II support recipients are expected to serve (funded locations) and the actual number of locations that support recipients can serve (actual locations).

DATES: Comments are due on or before July 19, 2019. If you anticipate that you will be submitting comments, but find it difficult to do so within the period of time allowed by this document, you should advise the contact listed below as soon as possible.

ADDRESSES: Pursuant to sections 1.415 and 1.419 of the Federal Communications Commission (Commission's) rules, 47 CFR 1.415, 1.419, interested parties may file comments and reply comments on or before the dates indicated on the first page of this document. Comments and reply comments may be filed using the Commission's Electronic Comment Filing System (ECFS). See Electronic Filing of Documents in Rulemaking Proceedings, 63 FR 24121 (1998).

Electronic Filers: Comments may be filed electronically using the internet by accessing the ECFS: http://apps.fcc.gov/ecfs/.

Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW, Room TW-A325, Washington, DC 20554. The filing hours are 8 a.m. to 7 p.m. All hand deliveries must be held together with rubber bands or fasteners. Any envelopes and boxes must be disposed of before entering the building.

Commercial overnight mail (other than U.S. Postal Service Express Mail and Priority Mail) must be sent to 9050 Junction Drive, Annapolis Junction, MD 20701.

U.S. Postal Service first-class, Express, and Priority mail must be addressed to 445 12th Street SW, Washington DC 20554.

People with Disabilities: To request materials in accessible formats for people with disabilities (braille, large print, electronic files, audio format), send an email to fcc504@fcc.gov or call the Consumer & Governmental Affairs Bureau at 202-418-0530 (voice), 202-418-0432 (tty).

FOR FURTHER INFORMATION CONTACT: Nissa Laughner, Wireline Competition Bureau, (202) 418-7400 or TTY: (202) 418-0484.

SUPPLEMENTARY INFORMATION: This is a summary of the Bureau's Public Notice (Notice) in WC Docket No. 10-90; DA 19-504, released on June 5, 2019. The full text of this document is available for public inspection during regular business hours in the FCC Reference Center, Room CY-A257, 445 12th Street, SW, Washington, DC 20554 or at the following internet address: https://www.fcc.gov/document/corrected-cam-ii-offers-deadline-extension-location-adjustments.

I. Adjustments of A-CAM Support Due to Number of Locations in Eligible Census Blocks

1. The Bureau also seeks comment on approaches to identify and resolve apparent discrepancies between the number of model-determined funded locations that A-CAM I and II support recipients are expected to serve (funded locations) and the actual number of locations that support recipients can serve (actual locations). In the 2016 Rate-of-Return Reform Order, 81 FR 24282, April 25, 2016, the Commission stated that “[c]arriers that discover there is a widely divergent number of locations in their funded census blocks as compared to the model should have the opportunity to seek an adjustment to modify the deployment obligations.” The Commission further delegated authority to the Bureau to address these discrepancies “by adjusting the number of funded locations downward and reducing associated funding levels.”

2. In the 2018 Locations Adjustment Public Notice, 83 FR 49040, September 28, 2018, the Bureau sought comment on the same issue with respect to Connect America Fund Phase II auction support recipients. The Bureau directs interested parties to that Public Notice and asks them to provide comment regarding whether the procedure proposed in that instance would be appropriate for A-CAM recipients. If not, parties are invited to comment on what changes would be necessary to make those procedures appropriate for A-CAM recipients. Comments should address the unique characteristics of A-CAM support recipients as it relates to the locations adjustment issue and should be submitted by the date indicated on the first page of this Notice.

II. Procedural Matters

A. Paperwork Reduction Act

3. This document contains proposed modified information collection requirements. The Bureau, as part of its continuing effort to reduce paperwork burdens, invites the general public and the Office of Management and Budget (OMB) to comment on the information collection requirements contained in this document, as required by the Paperwork Reduction Act of 1995, Public Law 104-13. In addition, pursuant to the Small Business Paperwork Relief Act of 2002, Public Law 107-198, see 44 U.S.C. 3506(c)(4), we seek specific comment on how we might further reduce the information collection burden for small business concerns with fewer than 25 employees.

4. Permit but Disclose Ex Parte Contact. For the purposes of the Commission's ex parte rules, information filed in this proceeding will be treated as initiating a permit-but-disclose proceeding under the Commission's rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g.,.doc,.xml,.ppt, searchable.pdf). Participants in this proceeding should familiarize themselves with the Commission's ex parte rules.

Federal Communications Commission.
D'wana R. Terry,
Associate Bureau Chief, Wireline Competition Bureau.

[FR Doc. 2019-14331 Filed 7-3-19; 8:45 am]

BILLING CODE 6712-01-P